FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 011539-008.

Title: Libra/Lykes/ML Space Charter and Sailing Agreement.

Parties: Companhia Libra de Navegaçâo, Lykes Lines Limited LLC, TMM Lines Limited LLC.

Synopsis: The proposed agreement modification deletes the Atlantic Coast of Florida from, and adds Puerto Rico to, the geographic scope of the agreement.

Agreement No.: 011560-003.

Title: The Transatlantic Bridge Agreement.

Parties: The COSCO/KL Transatlantic Vessel Sharing Agreement; The KL/YM Transatlantic Vessel Sharing Agreement.

Synopsis: The proposed amendment extends the termination date of the agreement to October 31, 2002, and provides for five additional container vessels to be deployed by the parties.

Agreement No.: 011561-003.

Title: COSCO/KL Transatlantic Vessel Sharing Agreement.

Parties: China Ocean Shipping Group Company, Kawasaki Kisen Kaisha, Ltd.

Synopsis: The proposed amendment extends the termination date of the agreement to October 31, 2002; provides for a further one-year extension clause; and provides for an increase in vessel load capacity from 2,000 TEUs to 3,500 TEUs.

Agreement No.: 011562-004.

Title: KL/YM Transatlantic Vessel Sharing Agreement.

Parties: Kawasaki Kisen Kaisha, Ltd.; Yangming Marine Transport Corporation.

Synopsis: The proposed amendment extends the termination date of the agreement to October 31, 2002, and provides for an increase in vessel load capacity from 2,800 TEUs to 3,500 TEUs.

Agreement No.: 201006-002.

Title: New Orleans-Ceres Gulf Lease Agreement.

Parties: Board of Commissioners of the Port of New Orleans Ceres Gulf, Inc.

Synopsis: The amendment changes the termination date of the agreement to October 31, 2002, and provides an option for one three-year extension.

Agreement No.: 201086-002.

Title: Oakland-Zim Lease Agreement.

Parties: City of Oakland, Board of Port Commissioners Zim-American Israeli Shipping Co., Inc.

Synopsis: The proposed amendment provides for the early termination of the agreement and reflects a financial settlement in connection with that termination.

By Order of the Federal Maritime Commission.
Dated: September 14, 2001.
Theodore A. Zook,
Assistant Secretary.

[FR Doc. 01-23351 Filed 9-19-01; 8:45 am]

BILLING CODE 6730-01-P